DEPARTMENT OF JUSTICE

Foreign Claims Settlement Commission

Privacy Act of 1974; System of Records

AGENCY: Foreign Claims Settlement Commission of the United States, Department of Justice.

ACTION: Notice of a New System of Records.

SUMMARY: Pursuant to the Privacy Act of 1974 and Office of Management and Budget (OMB) Circular No. A-108, notice is hereby given that the Foreign Claims Settlement Commission of the United States (Commission), a component within the United States Department of Justice (DOJ or Department), proposes to rescind the system of records notice titled East Germany, Registration of Claims Against, FCSC-10. The Commission proposes to rescind this systems of records because it has completed its work associated with the records and destroyed the records in accordance with the approved disposition schedule.

DATES: All of the records described below were destroyed in January 1999.

ADDRESSES: The public, OMB, and Congress are invited to submit any comments via email at info.fcsc@usdoj.gov or by mail to the Foreign Claims Settlement Commission, 441 G Street NW, Room 6330, Washington, DC 20579.

FOR FURTHER INFORMATION CONTACT: Jeremy LaFrancois, Chief Administrative Counsel, Foreign Claims Settlement Commission, U.S. Department of Justice, 441 G Street NW, Room 6330, Washington, DC 20579, or by telephone at (202) 616-6975.

SUPPLEMENTARY INFORMATION: The Privacy Act provides that an agency may only collect or maintain in its records information about individuals that is relevant and necessary to accomplish a purpose that is required by statute or executive order. If a system of records is comprised of records that no longer meet that standard, the Privacy Act may require that the agency stop maintain the system and expunge the records in accordance with the requirements in the SORN and the applicable records retention or disposition schedule approved by the National Archives and Records Administration. The system of records listed below was created by the Commission in the course of its adjudication of claims of U.S. citizens against foreign governments. The Commission has now concluded the program associated with this system of records and has destroyed the records in accordance with the approved disposition schedule.

In accordance with 5 U.S.C. 552a(r), the Department has provided a report to OMB and Congress on the modifications to this systems of records.

SYSTEM NAME AND NUMBER:

FCSC-10, East Germany, Registration of Claims Against

HISTORY:

FCSC-10—64 FR 31296, 71 FR 66347, 71 FR 70426, 72 FR 6746, 72 FR 49731

Dated: October 10, 2019.
Jeremy R. LaFrancois,
Chief Administrative Counsel.

[FR Doc. 2019-22500 Filed 10-15-19; 8:45 am]

BILLING CODE 4410-BA-P